DEPARTMENT OF LABOR

Employment and Training Administration

[TA-W-71,521]

Qimonda North America, Williston, VT; Notice of Termination of Investigation

Pursuant to Section 223 of the Trade Act of 1974, as amended, an investigation was initiated on July 2, 2009 in response to a worker petition filed by a company official on behalf of workers of Qimonda North America, Williston, Vermont.

The petitioning group of workers is covered by an earlier petition TA-W-65,808C filed on April 15, 2009 that is the subject of an ongoing investigation for which a determination has not yet been issued. Consequently, further investigation in this case would serve no purpose, and the investigation has been terminated.

Signed at Washington, DC, this 27th day of July 2009.
Richard Church,
Certifying Officer, Division of Trade Adjustment Assistance.

[FR Doc. E9-20464 Filed 8-25-09; 8:45 am]

BILLING CODE 4510-FN-P